ENVIRONMENTAL PROTECTION AGENCY

40 CFR Part 52

[EPA-R05-OAR-2008-0198; FRL-8722-9]

Approval and Promulgation of Air Quality Implementation Plans; Illinois

AGENCY: Environmental Protection Agency (EPA).

ACTION: Direct final rule.

SUMMARY: EPA is approving a request submitted by the Illinois Environmental Protection Agency (IEPA) on January 24, 2008, to revise the Illinois State Implementation Plan (SIP) for volatile organic compounds (VOC). The approval revises the Illinois SIP by updating information regarding the packaging production facility of Cromwell-Phoenix, Incorporated, located in Alsip, Illinois. It acknowledges that the source has changed its name from Cromwell-Phoenix, Incorporated, to CP-D Acquisition Company, LLC, as a consequence of a change in ownership. The revision does not change any of the VOC control requirements and will not increase VOC emissions because no emission limits were increased.

DATES: This rule is effective on December 29, 2008, unless EPA receives adverse written comments by November 28, 2008. If EPA receives adverse comments, EPA will publish a timely withdrawal of the rule in the Federal Register and inform the public that the rule will not take effect.

ADDRESSES: Submit your comments, identified by Docket ID No. EPA-R05-OAR-2008-0198 by one of the following methods:

• http://www.regulations.gov: Follow the online instructions for submitting comments.

• E-mail: mooney.john@epa.gov.

• Fax: (312) 886-5824.

• Mail: John Mooney, Chief, Criteria Pollutant Section, Air Programs Branch (AR-18J), U.S. Environmental Protection Agency, 77 West Jackson Boulevard, Chicago, Illinois 60604.

• Hand Delivery: John Mooney, Chief, Criteria Pollutant Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m. excluding Federal holidays.

Instructions: Direct your comments to Docket ID No. EPA-R05-OAR-2008-0198. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Environmental Protection Agency, Region 5, Air and Radiation Division, 77 West Jackson Boulevard, Chicago, Illinois 60604. This Facility is open from 8:30 a.m. to 4:30 p.m., Monday through Friday, excluding legal holidays. We recommend that you telephone Charles Hatten, Environmental Engineer, at (312) 886-6031 before visiting the Region 5 office.

FOR FURTHER INFORMATION CONTACT: Charles Hatten, Environmental Engineer, Criteria Pollutant Section, Air Programs Branch (AR-18J), Environmental Protection Agency, Region 5, 77 West Jackson Boulevard, Chicago, Illinois 60604, (312) 886-6031, hatten.charles@epa.gov.

SUPPLEMENTARY INFORMATION: Throughout this document whenever “we,” “us,” or “our” is used, we mean EPA. This supplementary information section is arranged as follows:

I. General Information

A. Does this action apply to me?

II. What revision did the State request be incorporated into the SIP?

III. What action is EPA taking?

IV. Statutory and Executive Order Reviews

I. General Information

A. Does this action apply to me?

This action only applies to the CP-D Acquisition Company, LLC, packaging production facility located in Alsip, Illinois (Cook County).

II. What revision did the State request be incorporated into the SIP?

The State has requested that EPA approve as a revision to the Illinois SIP the change in the source name from Cromwell-Phoenix, Inc. (Cromwell), to CP-D Acquisition Company, LLC (CP-D Acquisition).

Background

On September 18, 2003, the Opinion and Order of the Illinois Pollution Control Board (IPCB), AS 03-05, adopted the amendments to the paper coating rules in 35 Illinois Administrative Code (IAC) 218.204(c) for Cromwell's Alsip packaging production facility, subject to conditions and alternate requirements for this facility. The IEPA held a public hearing on this SIP amendment on August 7, 2003.

At the time the IPCB issued this Order, Cromwell was going through a name change. On November 7, 2003, Cromwell and CP-D Acquisition filed a joint motion to re-open Opinion and Order, AS 03-05, which granted Cromwell an adjusted standard from 35 IAC 218.204(c). Because the assets and ownership would not change, the IPCB re-opened the docket to re-issue the Opinion and Order, AS 03-05, granting the adjusted standard in the name of CP-D Acquisition. Therefore, under the Opinion and Order, AS 03-05, adopted on November 20, 2003, the IPCB transferred all of the requirements applicable to the operating assets of Cromwell to CP-D Acquisition. The revision does not change any of the control requirements and will not increase VOC emissions because no emission limits were increased relative to the adjusted standard approved by the EPA on December 13, 2007, and relative to other applicable VOC emission limits contained in the Illinois SIP. See 72 FR 70804, dated December 13, 2007.

The revision to the Illinois SIP is solely an administrative change to reference the new name of the packaging production facility from Cromwell to CP-D Acquisition Company, LLC.

III. What action is EPA taking?

We are approving a revision to the Illinois SIP to change the source name of the packaging production facility from Cromwell-Phoenix, Incorporated, to CP-D Acquisition Company, LLC.

We are publishing this action without prior proposal because we view this as a noncontroversial amendment and anticipate no adverse comments. However, in the proposed rules section of this Federal Register publication, we are publishing a separate document that will serve as the proposal to approve the state plan if relevant adverse written comments are filed. This rule will be effective December 29, 2008 without further notice unless we receive relevant adverse written comments by November 28, 2008. If we receive such comments, we will withdraw this action before the effective date by publishing a subsequent document that will withdraw the final action. All public comments received will then be addressed in a subsequent final rule based on the proposed action. The EPA will not institute a second comment period. Any parties interested in commenting on this action should do so at this time. If we do not receive any comments, this action will be effective December 29, 2008.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by December 29, 2008. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Nitrogen dioxide, Ozone, Reporting and recordkeeping requirements, Sulfur oxides, Volatile organic compounds.

Dated: September 16, 2008.
Walter W. Kovalick, Jr,
Acting Regional Administrator, Region 5.

For the reasons stated in the preamble, part 52, chapter I, of title 40 of the Code of Federal Regulations is amended as follows:

PART 52—[AMENDED]

1. The authority citation for part 52 continues to read as follows:

Authority: 42 U.S.C. 7401 et seq.

Subpart O—Illinois

2. Section 52.720 is amended by adding paragraph (c)(183) to read as follows:

§ 52.720 Identification of plan.

* * * * *

(c) * * *

(183) On January 24, 2008, the Illinois Environmental Protection Agency submitted a revision to its state implementation plan for the packaging production facility of CP-D Acquisition Company, LLC. The revision changes the source name from Cromwell-Phoenix, Incorporated, to CP-D Acquisition Company, LLC.

(i) Incorporation by reference.

(A) November 20, 2003, Supplemental Opinion and Order of the Illinois Pollution Control Board, AS 03-05, effective November 20, 2003.

[FR Doc. E8-25657 Filed 10-28-08; 8:45 am]

BILLING CODE 6560-50-P